DEPARTMENT OF LABOR

Employment and Training Administration

[TA-W-51,576]

Galt Block Warehouse, Bangor, ME; Notice of Termination of Investigation

Pursuant to section 221 of the Trade Act of 1974, as amended, an investigation was initiated on April 24, 2003 in response to a worker petition filed by the company on behalf of workers at Galt Block Warehouse, Bangor, Maine.

The petitioner has requested that the petition be withdrawn. Consequently, further investigation would serve no purpose and the investigation has been terminated.

Signed at Washington, DC, this 20th day of May, 2003.
Linda G. Poole,
Certifying Officer, Division of Trade Adjustment Assistance.

[FR Doc. 03-15482 Filed 6-18-03; 8:45 am]

BILLING CODE 4510-30-P